CONSUMER PRODUCT SAFETY COMMISSION

[Docket No. CPSC-2020-0027]

Agency Information Collection Activities; Proposed Collection; Comment Request; Warning Label Comprehension and Interpretation by Consumers for Children's Sleep Environments

AGENCY: Consumer Product Safety Commission.

ACTION: Notice.

SUMMARY: The Consumer Product Safety Commission (CPSC) is announcing an opportunity for public comment on a new proposed collection of information by the agency. Under the Paperwork Reduction Act of 1995 (PRA), federal agencies are required to publish notice in the Federal Register for each proposed collection of information, and to allow 60 days for public comment in response to the notice. This notice solicits comments on a proposed survey to evaluate consumer awareness of infant sleep product warning labels. The Commission will consider all comments received in response to this notice before submitting this collection of information to the Office of Management and Budget (OMB) for approval.

DATES: Submit written or electronic comments on the collection of information by February 19, 2021.

ADDRESSES: You may submit comments, identified by Docket No. CPSC-2020-0027, by any of the following methods:

Electronic Submissions: Submit electronic comments to the Federal eRulemaking Portal at: https://www.regulations.gov. Follow the instructions for submitting comments. CPSC does not accept comments submitted by electronic mail (email), except through https://www.regulations.gov. CPSC encourages you to submit electronic comments by using the Federal eRulemaking Portal, as described above.

Mail/Hand Delivery/Courier Written Submissions: Submit comments by mail/hand delivery/courier to: Division of the Secretariat, Consumer Product Safety Commission, Room 820, 4330 East West Highway, Bethesda, MD 20814; telephone: (301) 504-7479; email: cpsc-os@cpsc.gov.

Instructions: All submissions must include the agency name and docket number for this notice. CPSC may post all comments received without change, including any personal identifiers, contact information, or other personal information provided, to: https://www.regulations.gov. Do not submit electronically: Confidential business information, trade secret information, or other sensitive or protected information that you do not want to be available to the public. If you wish to submit such information, please submit it according to the instructions for mail/hand delivery/courier written submissions.

Docket: For access to the docket to read background documents or comments received, go to: https://www.regulations.gov, insert Docket No. CPSC-2020-0027 into the “Search” box, and follow the prompts. A copy of the proposed survey is available at http://www.regulations.gov under Docket No. CPSC-2020-0027, Supporting and Related Material.

FOR FURTHER INFORMATION CONTACT: Cynthia Gillham, Consumer Product Safety Commission, 4330 East West Highway, Bethesda, MD 20814; (301) 504-7991, or by email to: cgillham@cpsc.gov.

SUPPLEMENTARY INFORMATION: Under the PRA (44 U.S.C. 3501-3520), federal agencies must obtain approval from the Office of Management and Budget (OMB) for each collection of information they conduct or sponsor. “Collection of information” is defined in 44 U.S.C. 3502(3) and 5 CFR 1320.3(c) and includes agency proposed surveys. Section 3506(c)(2)(A) of the PRA (44 U.S.C. 3506(c)(2)(A)) requires federal agencies to provide a 60-day notice in the Federal Register concerning each proposed collection of information before submitting the collection to OMB for approval. Accordingly, CPSC is publishing notice of the proposed collection of information set forth in this document.

A. Warning Label Comprehension Survey

CPSC is authorized under section 5(a) of the Consumer Product Safety Act (CPSA), 15 U.S.C. 2054(a), to conduct studies and investigations relating to the causes and prevention of deaths, accidents, injuries, illnesses, other health impairments, and economic losses associated with consumer products. Section 5(b) of the CPSA, 15 U.S.C. 2054(b), further provides that CPSC may conduct research, studies, and investigations on the safety of consumer products, or test consumer products and develop product safety test methods and testing devices.

In 2019, the CPSC published the 2019 Nursery Product Annual Report, which reported injuries and deaths associated with nursery products among children younger than age 5.¹ That report identified 320 deaths related to nursery products from 2014 through 2016. Infant sleep products were associated with the most deaths: cribs/mattresses (33%), cradles/bassinets (18%), and playpens/play yards (20%). Also, in 2019, CPSC conducted a focus group of 48 participants to gather feedback from parents and grandparents (caregivers) on their beliefs, experience, and perceptions about infant sleeping practices and caregivers' compliance with safety messaging on nursery products. Caregiver responses in the focus group study indicated limited adherence to infant sleep safety warning messaging.² Some of the reasons for lack of adherence to safety warnings include caregiver perceptions that warning labels contain repetitive, non-specific information that fails to target the safety hazard. Additionally, caregivers are inundated with safety messaging that changes constantly, resulting in ambiguity about what messages are most relevant and current. Product marketing and the proliferation of new products may confuse caregivers as well. Caregivers often end up listening to friends and family, or relying on past experience, to decide what behaviors are safe for their child, rather than following the current guidelines recommended by experts. If caregivers are not attuned to the safety messaging on new products, they are more likely to use the products incorrectly.

¹ https://www.cpsc.gov/s3fs-public/Nursery%20Products%20Annual%20Report%20Dec2019_2.pdf? TkU_cVyVv69sq6Lpx0aSRjoLomqXWxRq.

² https://www.reginfo.gov/public/do/PRAViewIC?ref_nbr=201909-3041-002&icID=234760.

Accordingly, CPSC seeks to learn more about consumers' understanding of specific warning labels related to products that may be used as a sleeping environment for infants and how those labels influence caregivers' behavior. In the proposed information collection, CPSC seeks to survey 650 caregivers to obtain information regarding the gap in consumer knowledge about product warning labels and consumer adherence to, and behaviors associated with, warning labels. The online survey will be conducted with caregivers age 18 and above, who are a parent or grandparent with a child/grandchild between 2 months to 11 months old.

CPSC has contracted with Fors Marsh Group, LLC, to develop and execute this project for CPSC. If CPSC can obtain information about caregiver perceptions and comprehension of warning label language through the survey, CPSC will be able to identify better which types of safety warning labels and safety messaging are unclear to the target audience, and that potentially serve as a barrier to safe sleep. Information obtained through this survey is not intended to be considered nationally representative. CPSC intends to use findings from this survey, in conjunction with findings from other research and activities, to assist with providing recommendations for refining and enhancing warning labels in the future.

B. Burden Hours

We estimate the number of respondents to the survey to be 650. The online survey for the proposed study will take approximately 15 minutes (0.25 hours) to complete. We estimate the total annual burden hours for respondents to be 162.50 hours. The monetized hourly cost is $36.22, as defined by total compensation for all civilian workers, U.S. Bureau of Labor Statistics, Employer Costs for Employee Compensation, as of March 2020. Accordingly, we estimate the total cost burden to be $5,885.75 (162.50 hours multi; $36.22). The total cost to the federal government for the contract to design and conduct the proposed survey is $150,987.

C. Request for Comments

CPSC invites comments on these topics:

• Whether the proposed collection of information is necessary for the proper performance of CPSC's functions, including whether the information will have practical utility;

• The accuracy of CPSC's estimate of the burden of the proposed collection of information, including the validity of the methodology and assumptions used;

• Ways to enhance the quality, utility, and clarity of the information to be collected; and

• Ways to minimize the burden of the collection of information on respondents, including through the use of automated collection techniques, when appropriate, and other forms of information technology.

Alberta E. Mills,
Secretary, Consumer Product Safety Commission.

[FR Doc. 2020-28078 Filed 12-18-20; 8:45 am]

BILLING CODE P